Title 3—

The President

Proclamation 8454 of November 19, 2009

National Entrepreneurship Week, 2009

By the President of the United States of America

A Proclamation

Throughout our history, American entrepreneurs have been an effective force for innovation at home and around the world. From the airplane to the Internet search engine to new tractors, they have pioneered technologies, products, and processes that have improved lives and shaped the course of our future. Today, they are fueling our economy with their creativity, tireless work ethic, and risk-taking spirit. During National Entrepreneurship Week, we renew our commitment to supporting American entrepreneurs, including social entrepreneurs, who are spreading opportunity and prosperity across our Nation.

Entrepreneurs are the engine of job creation in America, generating millions of good jobs. Many begin with nothing more than a good idea, and translate new products and services into vibrant businesses. To secure our Nation’s future prosperity, we must ensure that our entrepreneurs have the tools they need to survive and thrive.

My Administration is working to provide opportunities and conditions for entrepreneurs to succeed. We are supporting the flow of credit by increasing loan guarantees and reducing borrowing fees to help more Americans start businesses. We also made the Research and Experimentation Tax Credit permanent to help burgeoning companies afford the high costs of developing new products and technologies. The recently formed Office of Innovation and Entrepreneurship at the Department of Commerce is building on these efforts with new policies and initiatives to unleash creativity and innovation, as well as turn inspired ideas into new employment-generating businesses.

Our Nation led the world’s economies in the 20th century because we led the world in innovation. To strengthen our position in the 21st century, we must rededicate ourselves to harnessing the creative spirit that has made America great.

NOW, THEREFORE, I, BARACK OBAMA, President of the United States of America, by virtue of the authority vested in me by the Constitution and the laws of the United States, do hereby proclaim November 16 through November 22, 2009, as National Entrepreneurship Week. I call upon all Americans to recognize the important contributions of entrepreneurs to our economy.

IN WITNESS WHEREOF, I have hereunto set my hand this nineteenth day of November, in the year of our Lord two thousand nine, and of the Independence of the United States of America the two hundred and thirty-fourth.

[FR Doc. E9-28313

Filed 11-23-09; 8:45 am]

Billing code 3195-W0-P